OFFICE OF THE UNITED STATES TRADE REPRESENTATIVE

Notice of Request for Public Comment Regarding Andean Trade Promotion and Drug Eradication Act (ATPDEA) Beneficiary Countries

AGENCY: Office of the United States Trade Representative.

ACTION: Notice; request for comments.

SUMMARY: In compliance with section 203(f) of the Andean Trade Preference Act (ATPA) (19 U.S.C. 3201), as amended by the Andean Trade Promotion and Drug Eradication Act (ATPDEA), the Office of the United States Trade Representative (USTR) is requesting the views of interested parties on whether the countries designated as ATPDEA beneficiary countries in Presidential Proclamation 7616 of October 31, 2002, are meeting the eligibility criteria provided for in section 204(b)(6)(B) of the ATPA, as amended by the ATPDEA.

DATES: Public comments are due at USTR no later than 5 p.m., March 27, 2002.

ADDRESSES: Submissions by mail or express delivery: Public Reading Room, ATTN: ATPDEA Beneficiary Countries, Office of the United States Trade Representative, 1724 F Street, Room F12P1, NW., Washington, DC 20508. Submissions by electronic mail: FR0030@ustr.gov. See requirements for submissions below.

FOR FURTHER INFORMATION CONTACT: Bennett Harman, Office of the Americas, Office of the United States Trade Representative, 600 17th Street, NW., Room 523, Washington, DC 20508. The telephone number is (202) 395-5190.

SUPPLEMENTARY INFORMATION: Signed into law on August 6, 2002, the Trade Act of 2002 contains, in title XXXI, provisions for enhanced trade benefits for eligible Andean countries. Titled the “Andean Trade Promotion and Drug Eradication Act” (ATPDEA), the ATPDEA renews the Andean Trade Preference Act (ATPA), and amends the ATPA to provide preferential treatment for certain products previously excluded from such treatment. In Presidential Proclamation 7616 of October 31, 2002, the President designated Bolivia, Colombia, Ecuador and Peru as ATPDEA beneficiary countries. Section 203(f) of the ATPA, as amended by the ATPDEA, requires the USTR, not later than April 30, 2003, to submit to Congress a report on the operation of the ATPA. Section 203(f)(2) requires USTR, before submitting such report, to request comments on whether beneficiary countries are meeting the criteria listed in section 204(6)(B). USTR refers interested parties to the Federal Register notice published on August 15, 2002 (67 FR 53379), for a full list of section 204(6)(B)'s eligibility criteria.

Submitting Comments: Comments, in English, may be submitted by mail, express delivery service, or e-mail (to FR0030@ustr.gov). It is strongly recommended that comments submitted by mail or express delivery service also be sent by e-mail. Persons making submissions by e-mail should use the following subject line: “ATPDEA Beneficiary Countries”. Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. Similarly, to the extent possible, any attachments to the submission should be included in the same file as the submission itself, and not as separate files. Persons submitting written comments by mail or express delivery service should provide 20 copies.

Written comments, notices of testimony, and testimony will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

Regina Vargo,
Assistant United States Trade Representative for the Americas.

[FR Doc. 03-4391 Filed 2-24-03; 8:45 am]

BILLING CODE 3190-01-M